DEPARTMENT OF HEALTH AND HUMAN SERVICES

Centers for Medicare & Medicaid Services

[Document Identifier: CMS-10371 and CMS-10370]

Agency Information Collection Activities: Proposed Collection; Comment Request

AGENCY: Centers for Medicare & Medicaid Service, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Cooperative Agreement to Support Establishment of State-Operated Health Insurance Exchanges; Use: All States (including the 50 States, consortia of States, and the District of Columbia herein referred to as States) that received a State Planning and Establishment Grant for Affordable Care Act's Exchanges are eligible for the Cooperative Agreement to Support Establishment of State Operated Insurance Exchanges. Section 1311(b) of the Affordable Care Act provides the opportunity for each State to establish an Exchange no later than January 1, 2014. The State of Alaska did not apply for a Planning grant. Because Alaska did not receive funding under Section 1311 for planning and establishment of an Exchange within one year of the enactment of the Affordable Care Act, by Statute, the state will not be eligible for Section 1311 Exchange planning and establishment money in the future. Section 1311 of the Affordable Care Act provides for grants to States for the planning and establishment of these Exchanges. Given the innovative nature of Exchanges and the statutorily-prescribed relationship between the Secretary and States in their development and operation, it is critical that the Secretary work closely with States to provide necessary guidance and technical assistance to ensure that States can meet the prescribed timelines, federal requirements, and goals of the statute.

In order to provide appropriate and timely guidance and technical assistance, the Secretary must have access to timely, periodic information regarding State progress. Consequently, the information collection associated with these grants is essential to facilitating reasonable and appropriate federal monitoring of funds, providing statutorily-mandated assistance to States to implement Exchanges in accordance with Federal requirements, and to ensure that States have all necessary information required to proceed, such that retrospective corrective action can be minimized.

There are two levels of awards for States to apply for the Establishment grants. Each level is based on grantee readiness. Level One Establishment grants are open to States that received federal funding for Exchange Planning activities and awardees of the Cooperative Agreements to Support Innovative Exchange Information Technology Systems. Level One Establishment cooperative agreements provide one year of funding to States that are ready to initiate establishment activities having made progress under their Exchange Planning grant. Level Two Establishment cooperative agreements are open to States that received federal funding for Exchange Planning activities and awardees of the Cooperative Agreements to Support Innovative Exchange Information Technology Systems. Level Two Establishment grants are designed to provide funding to applicants who have made significant progress in meeting specific benchmarks in the Exchange establishment process. Level One Establishment grantees may apply for additional funding under Level Two Establishment grants once they have achieved the benchmarks identified in the Level Two Establishment review criteria. There will be four opportunities for Level One Establishment applicants to apply for funding and there will be six opportunities for Level Two Establishment applicants to apply for funding. HHS anticipates Level One Establishment applications will be due: March 30, 2011; June 30, 2011; September 30, 2011; and December 30, 2011 with anticipated Notices of Grant Award made May 16, 2011; August 15, 2011; November 15, 2011; February 16, 2012. HHS anticipates Level Two Establishment applications will be due: March 30, 2011; June 30, 2011; September 30, 2011; December 30, 2011; March 30, 2012, June 29, 2012 with expected Notices of Grant Award made May 16, 2011; August 15, 2011; November 15, 2011; February 15, 2012; May 15, 2012, August 13, 2012. The Period of Performance for Level One Establishment grants is one year after date of award. The Period of Performance for Level Two Establishment grants is through December 31, 2014. HHS anticipates that the Funding Opportunity Announcement will be released on January 20, 2011. Form Number: CMS-10371 (OCN: 0938-1119); Frequency: Occasionally; Affected Public: State, Local or Tribal Governments; Number of Respondents: 50; Number of Responses: 94; Total Annual Hours: 564 hours. (For policy questions regarding this collection contact Leslie Shah at 301-492-4452. For all other issues call 410-786-1326.)

2. Type of Information Collection Request: Revision of a currently approved collection; Title of Information Collection: Territory Cooperative Agreement for the Affordable Care Act's Exchanges; Use: On March 23, 2010, the President signed into law the Patient Protection and Affordable Care Act. On March 30, 2010, the Health Care and Education Reconciliation Act of 2010 was signed into law. The two laws are collectively referred to as the Affordable Care Act. The Affordable Care Act includes a wide variety of provisions designed to expand coverage, provide more health care choices, enhance the quality of health care for all Americans, hold insurance companies more accountable, and lower health care costs.

The Affordable Care Act provides each State with the option to set up a State-operated Health Benefits Exchange. An Exchange is an organized marketplace to help consumers and small businesses buy health insurance in a way that permits easy comparison of available plan options based on price, benefits, and quality. By pooling people together, reducing transaction costs, and increasing price and quality transparency, Exchanges create more efficient and competitive health insurance markets for individuals and small employers. The Exchange will carry out a number of functions as required by the Affordable Care Act, including certifying qualified health plans, administering premium tax credits and cost-sharing reductions, responding to consumer requests for assistance, and providing an easy-to-use website and written materials that individuals can use to assess eligibility and enroll in health insurance coverage, and coordinating eligibility for and enrollment in other state health subsidy programs, including Medicaid and CHIP.

Section 1311 of the Affordable Care Act provides for grants to States for the planning and establishment of American Health Benefit Exchanges. The Secretary is planning to disburse funds in at least three phases: First, for planning; second, for early information technology development; and third, for implementation. $5 million was made available for Territories Exchange early implementation. Five Territories were eligible to receive a Notice of Grant Award; four applied and have been awarded funds. The Commonwealth of the Northern Mariana Islands did not apply for this funding opportunity announcement. States and Territories are eligible for up to $1 million each from this grant announcement, which will extend for up to twelve months. Form Number: CMS-10370 (OCN: 0938-1118); Frequency: Occasionally; Affected Public: State, Local, or Tribal Governments; Number of Respondents: 4; Number of Responses: 40; Total Annual Hours: 18,706 hours. (For policy questions regarding this collection, contact Katherine Harkins at (301) 492-4445. For all other issues call (410) 786-1326.)

To obtain copies of the supporting statement and any related forms for the proposed paperwork collections referenced above, access CMS' Web site at http://www.cms.gov/PaperworkReductionActof1995/PRAL/list.asp#TopOfPage or email your request, including your address, phone number, OMB number, and CMS document identifier, to Paperwork@cms.hhs.gov, or call the Reports Clearance Office at 410-786-1326.

In commenting on the proposed information collections please reference the document identifier or OMB control number. To be assured consideration, comments and recommendations must be submitted in one of the following ways by June 28, 2011:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: April 26, 2011.
Martique Jones,
Director, Regulations Development Group, Division B, Office of Strategic Operations and Regulatory Affairs.

[FR Doc. 2011-10430 Filed 4-28-11; 8:45 am]

BILLING CODE 4120-01-P